DEPARTMENT OF ENERGY

Federal Energy Regulatory Commission

Combined Notice of Filings #1

Take notice that the Commission received the following exempt wholesale generator filings:

Docket Numbers: EG14-73-000.

Applicants: Seiling Wind, LLC.

Description: Notice of Self-Certification of Exempt Wholesale Generator Status of Seiling Wind, LLC.

Filed Date: 7/14/14.

Accession Number: 20140714-5152.

Comments Due: 5 p.m. ET 8/4/14.

Docket Numbers: EG14-74-000.

Applicants: Seiling Wind II, LLC.

Description: Notice of Self-Certification of Exempt Wholesale Generator Status of Seiling Wind II, LLC.

Filed Date: 7/14/14.

Accession Number: 20140714-5156.

Comments Due: 5 p.m. ET 8/4/14.

Docket Numbers: EG14-75-000.

Applicants: Mammoth Plains Wind Project, LLC.

Description: Notice of Self-Certification of Exempt Wholesale Generator Status of Mammoth Plains Wind Project, LLC.

Filed Date: 7/14/14.

Accession Number: 20140714-5164.

Comments Due: 5 p.m. ET 8/4/14.

Docket Numbers: EG14-76-000.

Applicants: TX Jumbo Road Wind, LLC.

Description: Self-Certification of EWG Status of TX Jumbo Road Wind, LLC.

Filed Date: 7/14/14.

Accession Number: 20140714-5242.

Comments Due: 5 p.m. ET 8/4/14.

Take notice that the Commission received the following electric rate filings:

Docket Numbers: ER10-1982-008, ER10-1246-007; ER10-1252-007; ER10-1253-007.

Applicants: Consolidated Edison Company of New York, Inc., Orange and Rockland Utilities, Inc., Consolidated Edison Energy, Inc., Consolidated Edison Solutions, Inc.

Description: Amendment to December 18, 2013 Triennial Market Power Analysis in Northeast region of the Con Edison Companies under ER10-1982, et. al.

Filed Date: 7/2/14.

Accession Number: 20140702-5196.

Comments Due: 5 p.m. ET 7/25/14.

Docket Numbers: ER10-2601-003.

Applicants: Power Resources, Ltd.

Description: Notification of Non-Material Change in Status of Power Resources, Ltd.

Filed Date: 7/15/14.

Accession Number: 20140715-5102.

Comments Due: 5 p.m. ET 8/5/14.

Docket Numbers: ER13-90-004.

Applicants: Pennsylvania Electric Company, PJM Interconnection, L.L.C.

Description: PJM TOs submit compliance filing per the 5/15/2014 Order in Docket No. ER13-90 to be effective 2/1/2013.

Filed Date: 7/14/14.

Accession Number: 20140714-5220.

Comments Due: 5 p.m. ET 8/4/14.

Docket Numbers: ER13-187-008.

Applicants: Midcontinent Independent System Operator, Inc.

Description: 2014-07-14 Order 1000 Regional Compliance Filing Part 2 to be effective 6/1/2013.

Filed Date: 7/14/14.

Accession Number: 20140714-5235.

Comments Due: 5 p.m. ET 8/4/14.

Docket Numbers: ER13-198-004.

Applicants: PJM Interconnection, L.L.C.

Description: Compliance Filing per 5/15/2014 Order in Docket No. ER13-198 re Order 1000 to be effective 1/1/2014.

Filed Date: 7/14/14.

Accession Number: 20140714-5219.

Comments Due: 5 p.m. ET 8/4/14.

Docket Numbers: ER13-1380-005.

Applicants: New York Independent System Operator, Inc.

Description: NYISO filing to restore language; amend pivotal supplier language to be effective 3/23/2015.

Filed Date: 7/15/14.

Accession Number: 20140715-5115.

Comments Due: 5 p.m. ET 8/5/14.

Docket Numbers: ER14-2051-000.

Applicants: CED White River Solar, LLC.

Description: Supplement to May 28, 2014 CED White River Solar, LLC tariff filing.

Filed Date: 7/11/14.

Accession Number: 20140711-5172.

Comments Due: 5 p.m. ET 8/1/14.

Docket Numbers: ER14-2419-001.

Applicants: ISO New England Inc.

Description: Compliance Filing of Two-Settlement FCM Design—Part 2 of 2 to be effective 6/1/2018.

Filed Date: 7/14/14.

Accession Number: 20140714-5232.

Comments Due: 5 p.m. ET 8/4/14.

Docket Numbers: ER14-2422-000.

Applicants: Black Bear Hydro Partners, LLC.

Description: Black Bear Hydro MBR Filing to be effective 7/15/2014.

Filed Date: 7/14/14.

Accession Number: 20140714-5184.

Comments Due: 5 p.m. ET 8/4/14.

Docket Numbers: ER14-2423-000.

Applicants: PJM Interconnection, L.L.C.

Description: Notice of Cancellation of Original Service Agreement No. 2945; Queue No. W1-076 to be effective 7/15/2014.

Filed Date: 7/14/14.

Accession Number: 20140714-5189.

Comments Due: 5 p.m. ET 8/4/14.

Docket Numbers: ER14-2424-000.

Applicants: Black Bear SO, LLC.

Description: Black Bear SO MBR Filing to be effective 7/15/2014.

Filed Date: 7/14/14.

Accession Number: 20140714-5202.

Comments Due: 5 p.m. ET 8/4/14.

Docket Numbers: ER14-2425-000.

Applicants: Bear Swamp Power Company LLC.

Description: Bear Swamp Power Company LLC MBR Filing to be effective 7/15/2014.

Filed Date: 7/14/14.

Accession Number: 20140714-5218.

Comments Due: 5 p.m. ET 8/4/14.

Docket Numbers: ER14-2426-000.

Applicants: PJM Interconnection, L.L.C.

Description: New OATT Att LL—Form of Interconnection Coordination Agreement to be effective 9/13/2014.

Filed Date: 7/14/14.

Accession Number: 20140714-5222.

Comments Due: 5 p.m. ET 8/4/14.

Docket Numbers: ER14-2427-000.

Applicants: PJM Interconnection, L.L.C.

Description: Notice of Cancellation of Original Service Agreement No. 3416; Queue No. X2-085 to be effective 8/11/2014.

Filed Date: 7/14/14.

Accession Number: 20140714-5233.

Comments Due: 5 p.m. ET 8/4/14.

Docket Numbers: ER14-2428-000.

Applicants: Brookfield Energy Marketing LP.

Description: Brookfield Energy Marketing LP MBR Filing to be effective 7/15/2014.

Filed Date: 7/14/14.

Accession Number: 20140714-5234.

Comments Due: 5 p.m. ET 8/4/14.

Docket Numbers: ER14-2429-000.

Applicants: Brookfield Energy Marketing Inc.

Description: Brookfield Energy Marketing Inc. MBR Filing to be effective 7/15/2014.

Filed Date: 7/14/14.

Accession Number: 20140714-5237.

Comments Due: 5 p.m. ET 8/4/14.

Docket Numbers: ER14-2430-000.

Applicants: Arizona Public Service Company.

Description: Large Generator Interconnection Agreements with Hyder Solar to be effective 8/16/2014.

Filed Date: 7/14/14.

Accession Number: 20140714-5238.

Comments Due: 5 p.m. ET 8/4/14.

Docket Numbers: ER14-2431-000.

Applicants: PJM Interconnection, L.L.C.

Description: Notice of Cancellation of Original Service Agreement No. 3321; Queue No. W3-120 to be effective 7/15/2014.

Filed Date: 7/15/14.

Accession Number: 20140715-5059.

Comments Due: 5 p.m. ET 8/5/14.

Docket Numbers: ER14-2432-000.

Applicants: Southern California Edison Company.

Description: LGIA with SP Antelope DSR LLC to be effective 7/16/2014.

Filed Date: 7/15/14.

Accession Number: 20140715-5084.

Comments Due: 5 p.m. ET 8/5/14.

Docket Numbers: ER14-2433-000.

Applicants: Brookfield Energy Marketing US LLC.

Description: Brookfield Energy Marketing US LLC MBR Filing to be effective 7/16/2014.

Filed Date: 7/15/14.

Accession Number: 20140715-5096.

Comments Due: 5 p.m. ET 8/5/14.

Docket Numbers: ER14-2434-000.

Applicants: Brookfield Power Piney & Deep Creek LLC.

Description: Brookfield Power Piney &#38; Deep Creek LLC MBR Filing to be effective 7/16/2014.

Filed Date: 7/15/14.

Accession Number: 20140715-5106.

Comments Due: 5 p.m. ET 8/5/14.

Docket Numbers: ER14-2435-000.

Applicants: Brookfield Renewable Energy Marketing US LLC.

Description: Brookfield Renewable Energy Marketing US LLC MBR Filing to be effective 7/16/2014.

Filed Date: 7/15/14.

Accession Number: 20140715-5124.

Comments Due: 5 p.m. ET 8/5/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2014.
Nathaniel J. Davis, Sr.,
Deputy Secretary.

[FR Doc. 2014-17227 Filed 7-22-14; 8:45 am]

BILLING CODE 6717-01-P